DEPARTMENT OF HOUSING AND URBAN DEVELOPMENT

[Docket No. FR-7109-N-02; OMB Control No.: 2577-0230]

60-Day Notice of Proposed Information Collection: Public Housing Reform; Change in Admission and Occupancy Requirements

AGENCY: Office of the Assistant Secretary for Public and Indian Housing (PIH), HUD.

ACTION: Notice.

SUMMARY: HUD is seeking approval from the Office of Management and Budget (OMB) for the information collection described below. In accordance with the Paperwork Reduction Act, HUD is requesting comments from all interested parties on the proposed collection of information. The purpose of this notice is to allow for 60 days of public comment.

DATES: Comments Due Date: April 20, 2026.

ADDRESSES: Interested persons are invited to submit comments regarding this proposal. Written comments and recommendations for the proposed information collection can be sent within 60 days of publication of this notice to www.regulations.gov. Interested persons are also invited to submit comments regarding this proposal and comments should refer to the proposal by name and/or OMB Control Number and should be sent to: Eva Fulton, Program Analyst, Department of Housing and Urban Development, 451 7th Street SW, Room 3180, Washington, DC 20410.

FOR FURTHER INFORMATION CONTACT: Eva Fulton, Program Analyst, Office of Policy Programs and Legislative Initiatives, Public and Indian Housing, Department of Housing and Urban Development, 451 7th Street SW, Washington, DC 20410; email Eva Fulton at PRAPublicComments@hud.gov, telephone (202) 402-5847 for Eva. This is not a toll-free number. HUD welcomes and is prepared to receive calls from individuals who are deaf or hard of hearing, as well as individuals with speech or communication disabilities. To learn more about how to make an accessible telephone call, please visit https://www.fcc.gov/consumers/guides/telecommunications-relay-service-trs.

Copies of available documents submitted to OMB may be obtained from Ms. Fulton.

SUPPLEMENTARY INFORMATION: This notice informs the public that HUD is seeking approval from OMB for the information collection described in Section A.

A. Overview of Information Collection

Title of Information Collection: Public Housing Reform Act: Changes to Admission and Occupancy Requirements.

OMB Approval Number: 2577-0230.

Type of Request: Revision of currently approved collection.

Form Number: N/A.

Description of the need for the information and proposed use:

The purpose of this information collection is to implement the requirement that public housing agencies (PHAs) make their admission and occupancy policies available upon request to the public and to the Department of Housing and Urban Development (HUD). PHAs must maintain and provide, for inspection, written policies related to admission and continued occupancy, including eligibility, local preferences, and rent determination, to respond to inquiries from tenants, legal-aid organizations, HUD, and other interested parties, whether informally or through the Freedom of Information Act.

The Quality Housing and Work Responsibility Act of 1998 (QHWRA) (Title V of the FY 1999 HUD Appropriations Act, Pub. L. 105-276), requires PHAs to maintain and make available written documentation of their admission and occupancy policies. QHWRA made comprehensive changes to the public housing program, including updates related to choice of rent, community service and self-sufficiency requirements, admission preferences, and the determination of income and rent. This information collection reflects those QHWRA-related admission and occupancy requirements.

Section 103 of the Housing Opportunity Through Modernization Act of 2016 (HOTMA), which amends the United States Housing Act of 1937, introduced additional requirements that further modified PHA policies. HOTMA required a one-time update of PHA written policies to address “over-income families,” defined as households with annual incomes at least 120 percent of the area median income for two consecutive years, and established new annual reporting requirements on the number of over-income families in public housing and the number of families on public housing waiting lists.

HUD is revising this collection to reflect updated calculations based on the current number of active PHAs. Since the last approved information collection, the number of active PHAs has changed from 2,774 to 2,667. This number fluctuates over time due to factors such as PHA mergers or the termination of public housing programs through the Rental Assistance Demonstration.

Respondents: Public Housing Agencies (PHAs).

Estimated Number of Respondents: 2,667.

Estimated Number of Responses: 2,667.

Frequency of Response: 1.

Average Hours per Response: 24.

Total Estimated Burdens: 64,008.

Information collection | Number of respondents | Frequency of response | Responses per annum | Burden hour per response | Annual burden hours | Hourly cost per response | Annual cost
Written policies on admission and continued occupancy | 2,667 | 1 | 2,667 | 24 | 64,008 | $21.69 * | $1,388,333.52
* Per 2024 data provided by the Bureau of Labor Statistics (https://www.bls.gov/ooh/community-and-social-service/social-and-human-service-assistants.htm).

B. Solicitation of Public Comment

This notice is soliciting comments from members of the public and affected parties concerning the collection of information described in Section A on the following:

(1) Whether the proposed collection of information is necessary for the proper performance of the functions of the agency, including whether the information will have practical utility;

(2) The accuracy of the agency's estimate of the burden of the proposed collection of information;

(3) Ways to enhance the quality, utility, and clarity of the information to be collected; and

(4) Ways to minimize the burden of the collection of information on those who are to respond; including through the use of appropriate automated collection techniques or other forms of information technology, e.g., permitting electronic submission of responses.

HUD encourages interested parties to submit comment in response to these questions.

C. Authority

Section 2 of the Paperwork Reduction Act of 1995, 44 U.S.C. 3507.

Laura Kunkel,
Acting Director, Office of Policy, Programs, and Legislative Initiatives.

[FR Doc. 2026-03162 Filed 2-17-26; 8:45 am]

BILLING CODE 4210-67-P